DEPARTMENT OF TRANSPORTATION

Federal Aviation Administration

14 CFR Part 39

[Docket No. 2001-NE-22; Amendment 39-12445; AD 2001-19-05]

RIN 2120-AA64

Airworthiness Directives; Rolls-Royce plc. RB211 535 Turbofan Engines, Correction

AGENCY: Federal Aviation Administration, DOT.

ACTION: Final rule; request for comments, correction.

SUMMARY: This document makes a correction to Airworthiness Directive (AD) 2001-19-05 applicable to Rolls-Royce plc (RR) models RB211-535C-37, RB211-535E4-37, RB211-535E4-B-37, and RB211-535E4-B-75 turbofan engines, with radial drive steady bearing, part number (P/N) LK76084, that was published in the Federal Register on September 26, 2001 (66 FR 49099). A part number referenced in items (3) and (4) of Table 1 in the regulatory information is incorrect. This document corrects that part number. In all other respects, the original document remains the same.

EFFECTIVE DATE: October 11, 2001.

FOR FURTHER INFORMATION CONTACT: James Lawrence, Aerospace Engineer, Engine Certification Office, FAA, Engine and Propeller Directorate, 12 New England Executive Park, Burlington, MA 01803-5299; telephone (781) 238-7176, fax (781) 238-7199.

SUPPLEMENTARY INFORMATION: A final rule; request for comments airworthiness directive applicable to (RR) models RB211-535C-37, RB211-535E4-37, RB211-535E4-B-37, and RB211-535E4-B-75 turbofan engines, with radial drive steady bearing, part number (P/N) LK76084, was published in the Federal Register on September 26, 2001 (66 FR 49099). The following correction is needed:

PART 39—[CORRECTED]

§ 39.13 [Corrected]

On page 49100, in the third column in the Regulatory Information, Table 1, “(3) One engine has a radial drive steady bearing P/N FK76084 with fewer than 600 HSN, and the other engine has a bearing P/N FK76084 with more than 1,500 HSN,” is corrected to read “(3) One engine has a radial drive steady bearing P/N LK76084 with fewer than 600 HSN, and the other engine has a bearing P/N LK76084 with more than 1,500 HSN.” Also, Table 1 “(4) Both engines have a radial drive steady bearing P/N FK76084 with 600 or more HSN,” is corrected to read “(4) Both engines have a radial drive steady bearing P/N LK76084 with 600 or more HSN.”

Issued in Burlington, MA, on October 1, 2001.
Jay J. Pardee,
Manager, Engine and Propeller Directorate, Aircraft Certification Service.

[FR Doc. 01-25053 Filed 10-12-01; 8:45 am]

BILLING CODE 4910-13-P